DEPARTMENT OF HOMELAND SECURITY

Transportation Security Administration

Notice of Intent To Request Renewal From the Office of Management and Budget (OMB) of One Current Public Collection of Information; Federal Flight Deck Officer Program

AGENCY: Transportation Security Administration (TSA), DHS.

ACTION: 60 Day Notice.

SUMMARY: The Transportation Security Administration (TSA) invites public comment on one currently approved Information Collection Request (ICR), OMB control number 1652-0011, abstracted below, that we will submit to the Office of Management and Budget (OMB) for renewal in compliance with the Paperwork Reduction Act. The ICR describes the nature of the information collection and its expected burden. The collection requires interested volunteers to fill out an application to determine their suitability for participating in the Federal Flight Deck Officer (FFDO) Program, and deputized FFDOs to submit written reports of certain prescribed incidents.

DATES: Send your comments by January 20, 2009.

ADDRESSES: Comments may be mailed or delivered to Joanna Johnson, Office of Information Technology, TSA-11, Transportation Security Administration, 601 South 12th Street, Arlington, VA 22202-4220.

FOR FURTHER INFORMATION CONTACT: Joanna Johnson at the above address, or by telephone (571) 227-3651 or facsimile (703) 603-0822.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0011; Federal Flight Deck Officer Program. The Transportation Security Administration (TSA) initially required this information collection under Public Law 107-296 and Public Law 108-176. See Arming Pilots Against Terrorism Act (APATA), Title XIV of the Homeland Security Act (Pub. L. 107-296, Nov. 25, 2002), codified at 49 U.S.C 44921; Vision 100—Century of Aviation Reauthorization Act (Vision 100) (Pub. L. 108-176, 117 Stat. 2490, Dec. 12, 2003), codified at 49 U.S.C. 44918. TSA is seeking to renew this information collection in order to continue collecting the information described in this notice to comply with its statutory mission. APATA required TSA to establish a program to deputize volunteer pilots of passenger air carriers as Federal law enforcement officers to defend the flight deck of their aircraft against acts of criminal violence or air piracy. With the enactment of Vision 100, eligibility to participate in the FFDO program expanded to include pilots of all-cargo aircraft, as well as flight engineers and navigators on both passenger and cargo aircraft.

In order to screen volunteers for entry into the FFDO program, TSA collects information, including name, address, prior address information, personal references, criminal history, limited medical information, financial information, and employment information, from applicants through comprehensive applications they submit to TSA. In addition, standard operating procedures require deputized FFDOs to report certain prescribed incidents to TSA so that appropriate records are created for evidentiary, safety, and security purposes. TSA uses the information collected to assess the qualifications and suitability of prospective and current FFDOs through an online application, to ensure the readiness of every FFDO, to administer the program, and for security purposes. Based on the average number of new applicants to the FFDO program, TSA estimates a total of 5,000 respondents annually. TSA estimates that the online application will take one hour for each applicant to complete, for a total burden of 5,000 hours.

Issued in Arlington, Virginia, on November 13, 2008.
Kurt Guyer,
Acting, Program Manager, Business Improvements and Communications, Office of Information Technology.

[FR Doc. E8-27443 Filed 11-18-08; 8:45 am]

BILLING CODE 4910-62-P